DEPARTMENT OF COMMERCE

National Oceanic and Atmospheric Administration

[I.D. 012800C]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Oversight Committee and Groundfish Advisory Panel on February 16, 2000, to consider actions affecting New England fisheries in the exclusive economic zone. Recommendations from these groups will be brought to the full Council for formal consideration and action, if appropriate.

DATES: The meeting will be held on February 16, 2000, at 9:30 a.m.

ADDRESSES: The meeting will be held at the Sheraton Ferncroft Hotel, 50 Ferncroft Road, Danvers, MA 01923; telephone 978-777-2500.

Council Address: New England Fishery Management Council, 50 Water Street, The Tannery-Mill 2, Newburyport, MA 01950, telephone 978-465-0492.

FOR FURTHER INFORMATION CONTACT: Paul J. Howard, Executive Director, New England Fishery Management Council (978) 465-0492.

SUPPLEMENTARY INFORMATION: The Groundfish Oversight Committee and Groundfish Advisory Panel will hear a presentation by the Northeast Fisheries Science Center on current information regarding fish stock boundaries in the region. The Committee and Panel will review problems and issues identified during the scoping process of Amendment 13 to the Northeast Multispecies Fishery Management Plan and organize the amendment development strategy. This organization may include the formation of working groups consisting of advisory panel and committee members, and will include the initial tasking of work to be completed by the Council Staff and Plan Development Team.

Although non-emergency issues not contained in this agenda may come before this Council for discussion, these issues may not be the subject of formal Council action during this meeting. Council action will be restricted to those issues specifically listed in this document and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: January 28, 2000.
Bruce C. Morehead,
Acting Director, Office of Sustainable Fisheries, National Marine Fisheries Service.

[FR Doc. 00-2342 Filed 2-2-00; 8:45 am]

BILLING CODE 3510-22-F